DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Nomination Process for National Marine Sanctuaries.

OMB Control Number: 0648-0682.

Form Number(s): None.

Type of Request: Regular (extension of a currently approved information collection).

Number of Respondents: 10.

Average Hours per Response: Four hours for collecting information for nomination; 20 hours for gathering public support and organizing community meetings; 2 hours each for public meetings; and for writing and submitting nomination request; 30 minutes each for amendments to the nomination and for follow-up requests.

Burden Hours: 290.

Needs and Uses: This request is for extension of a currently approved information collection.

National marine sanctuary regulations provide that the public may nominate special places of the marine environment through the sanctuary nomination process (15 CFR part 922). Persons wanting to submit nominations for consideration should submit information on the qualifying criteria and management considerations for the site to be nominated. The Office of National Marine Sanctuaries reviews the submissions, which could result in the nomination being added to an inventory of areas that NOAA may consider for sanctuary designation at some point in the future. Sanctuary designation is a separate public process that would be conducted pursuant to the requirements of the National Marine Sanctuaries Act, and all other applicable laws and executive orders.

Affected Public: Individuals or households; business or other for-profit organizations; not-for-profit institutions; state, local or tribal governments.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 19, 2017.
Sarah Brabson,
NOAA PRA Clearance Officer.

[FR Doc. 2017-13068 Filed 6-21-17; 8:45 am]

BILLING CODE 3510-NK-P